DEPARTMENT OF AGRICULTURE

Forest Service

Notice of New Fee Site

AGENCY: Kaibab National Forest, USDA Forest Service, Arizona.

ACTION: Notice of New Fee Sites.

SUMMARY: The Kaibab National Forest is proposing to charge fees for the overnight rental of three historic facilities on the North Kaibab Ranger District. Jumpup cabin is the oldest Ranger Station on the North Kaibab Ranger District. The cabin was recently rehabilitated with American Recovery and Reinvestment Act (ARRA) and Forest Service funds and is a popular overnight stop for hikers in the Kanab Creek Wilderness Area. The new fee is proposed at $60.00 per night for Jumpup Cabin with a maximum capacity of eight people. Pleasant Valley Cabin is located on Highway 67, a few miles north of the Grand Canyon National Park. The cabin will require substantial rehabilitation work over the next two years to prepare it for public use. The new fee is proposed at $140.00 per night for Pleasant Valley Cabin with a maximum capacity of four people. Big Springs Administrative Center is on the National Register of Historic Places and has been used by homesteaders, and later the Forest Service, since the 1800's. The complex consists of a historic office, dining hall, shower house, group kitchen, seven residential units, and several administrative structures. The residential units were recently restored using ARRA funds. While Big Springs serves as an active administrative site for the U.S. Forest Service, rental cabins available to the public are in a discrete location separated from administrative structures. The proposed fee is $65.00 per night for an individual cabin at Big Springs. Individual cabins vary in occupancy from two to four people per cabin and includes use of the shower house, kitchen and dining hall.

Other cabin rentals within the Arizona National Forests have shown that the public appreciates and enjoys the availability of historic rental facilities. Funds from the rentals will be used for the continued operation and maintenance of these facilities and other properties in the Arizona “Rooms with a View” Cabin Rental Program.

DATES: Send any comments about these fee proposals by June 1, 2013 so comments can be compiled, analyzed and shared with the BLM Arizona Resource Advisory Council (RAC). Jumpup Cabin will become available for rent in fall of 2013, Big Springs Administrative Center will become available for rent in spring of 2014, and Pleasant Valley Cabin will be available for rent in spring of 2015.

ADDRESSES: Forest Supervisor, Kaibab National Forest, 800 S. 6th St., Williams, Arizona 86046-2899.

FOR FURTHER INFORMATION CONTACT: Missy Spandl, Recreation Manager, Kaibab National Forest, at (928) 643-8120 or mmspandl@fs.fed.us.

SUPPLEMENTARY INFORMATION: The Federal Recreation Lands Enhancement Act (Title VII, Public Law 108-447) directed the Secretary of Agriculture to publish a six month advance notice in the Federal Register whenever new recreation fee areas are established. Once public involvement is complete, these new fees will be reviewed by a Recreation Resource Advisory Committee prior to a final decision and implementation.

The Kaibab National Forest currently has two other cabin rentals available (Spring Valley Cabin and Hull Cabin) that rent for $100 to $150 per night. People wanting to rent any of these cabins will need to do so through the National Recreation Reservation Service, at www.recreation.gov or by calling 1-877-444-6777. The National Recreation Reservation Service charges a $9 reservation fee for internet reservations and $10 fee for phone reservations.

Dated: February 28, 2013.
Angela Elam,
Acting Forest Supervisor, Kaibab National Forest.

[FR Doc. 2013-05285 Filed 3-7-13; 8:45 am]

BILLING CODE 3410-11-P